DEPARTMENT OF TRANSPORTATION

Pipeline and Hazardous Materials Safety Administration

[Docket No. PHMSA-2005-27954]

Pipeline Safety: Meeting of the Technical Pipeline Safety Standards Committee

AGENCY: Pipeline and Hazardous Materials Safety Administration (PHMSA), U.S. Department of Transportation (DOT).

ACTION: Notice of advisory committee meeting.

SUMMARY: This notice announces a public meeting of PHMSA's Technical Pipeline Safety Standards Committee (TPSSC). The committee will meet to vote on two proposed rules; (1) Standards for Increasing the Maximum Allowable Operating Pressure for Gas Transmission Pipelines and, (2) Pipeline Safety: Polyamide-11 (PA-11) Plastic Pipe Design Pressures.

DATES: The meeting will be held on Tuesday, June 10, 2008, from 1 p.m. to 5 p.m. EDT.

ADDRESSES: The Committee members will participate by telephone conference call. Members of the public may attend the meeting at the U.S. Department of Transportation, 1200 New Jersey Avenue, SE., East Building, 2nd Floor, Room E27 302, in Washington, DC 20590.

FOR FURTHER INFORMATION CONTACT: For additional information regarding this meeting, please contact Kay McIver at 202 366-0113, or by e-mail at kay.mciver@dot.gov.

SUPPLEMENTARY INFORMATION:

I. Meeting Details

Members of the public may attend and make a statement during the meeting. If you plan to make a statement during the advisory committee meeting, please notify the names contact under FOR FURTHER INFORMATION CONTACT by May 30, 2008. Please note that the meeting's presiding officer may deny a nonscheduled request to make a statement and may also limit the time of any speaker.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the meeting, please contact Kay McIver at 202 366-0113 by May 30, 2008.

II. Committee Background

The TPSSC is a statutorily mandated advisory committee that advises PHMSA on proposed safety standards, risks assessments, and safety policies for natural gas pipelines. The TPSSC was established under the Federal Advisory Committee Act (Pub. L. 92-463, 5 U.S.C. App. 1) and the pipeline safety law (49 U.S.C. Chap. 601). The committee consists of 15 members—with membership evenly divided among the Federal and State government, the regulated industry, and the general public. The TPSSC advises on technical feasibility, practicability, and cost-effectiveness of each proposed pipeline safety standard.

III. Agenda

The agenda for the meeting will include discussions and votes on two notices of proposed rulemaking.

1: Standards for Increasing the Maximum Allowable Operating Pressure for Gas Transmission Pipelines. (73 FR 13167: Mar 12, 2008).

2: Pipeline Safety: Polyamide-11 (PA-11) Plastic Pipe Design Pressures. (73 FR 1307: Jan 8, 2008).

Authority: 49 U.S.C. 60102, 60115; 60118.

Issued in Washington, DC on April 30, 2008.
Jeffrey D. Wiese,
Associate Administrator for Pipeline Safety.

[FR Doc. E8-9930 Filed 5-5-08; 8:45 am]

BILLING CODE 4910-60-P